FEDERAL COMMUNICATIONS COMMISSION

47 CFR Part 97

[ET Docket No. 15-99; FCC 17-33]

WRC-12 Implementation Report and Order

AGENCY: Federal Communications Commission.

ACTION: Final rule; announcement of effective date.

SUMMARY: In this document, the Federal Communications Commission (Commission) announces that the Office of Management and Budget (OMB) has approved, for a period of three years, the information collection associated with the Commission's Report and Order, FCC 17-33. The Commission also announces the effective date of the remaining part 97 Amateur Radio Service rules adopted in FCC 17-33 that had not yet been made effective. These rules do not require OMB approval. This document is consistent with the Report and Order, which stated that the Commission would publish a document in the Federal Register announcing OMB approval of the information collection requirement and the relevant effective date of the rules.

DATES: The rule amendments to 47 CFR 97.3, 97.15(c), 97.301(b) through (d), 97.303(g), 97.305(c), and 97.313(k) and (l), published at 82 FR 27178, June 14, 2017, are effective on September 15, 2017.

FOR FURTHER INFORMATION CONTACT: For additional information, contact Cathy Williams by email at Cathy.Williams@fcc.gov and telephone at (202) 418-2918.

SUPPLEMENTARY INFORMATION: This document announces that, on August 30, 2017, OMB approved the information collection requirement contained in the Commission's Report and Order, FCC 17-33, published at 82 FR 27178, June 14, 2017. The OMB Control Number is 3060-1239. The Commission publishes this document as an announcement of the effective date of the rule. If you have any comments on the burden estimates listed below, or how the Commission can improve the collection and reduce any burdens caused thereby, please contact Cathy Williams, Federal Communications Commission, Room 1-C823, 445 12th Street SW., Washington, DC 20554. Please include the OMB Control Number 3060-1239 in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the Commission is notifying the public that it received final OMB approval on August 30, 2017, for the information collection requirement contained in 47 CFR 97.303(g)(2), as amended in the Commission's Report and Order, FCC 17-33.

Under 5 CFR 1320, an agency may not conduct or sponsor a collection of information unless it displays a current, valid OMB Control Number. No person shall be subject to any penalty for failing to comply with a collection of information subject to the Paperwork Reduction Act that does not display a current, valid OMB Control Number. The OMB Control Number is 3060-1239.

The foregoing notice is required by the Paperwork Reduction Act of 1995, Public Law 104-13, October 1, 1995, and 44 U.S.C. 3507. The total annual reporting burdens and costs for the respondents are as follows:

OMB Control Number: 3060-1239.

OMB Approval Date: August 30, 2017.

OMB Expiration Date: August 31, 2020.

Title: Section 97.303(g)(2), Notification Requirement.

Form Number: N/A.

Respondents: Individuals or households.

Number of Respondents and Responses: 1,000 respondents; 1,000 responses.

Estimated Time per Response: 10 minutes (0.167).

Frequency of Response: Third party disclosure requirement.

Obligation to Respond: Required to obtain clearance to operate. Statutory authority for this information collection is contained in 47 U.S.C. 154(i), 161, 301, 302, 303(e), 303(f), 303(r), 304, 307 and 332(b).

Total Annual Burden: 167 hours.

Total Annual Cost: No cost.

Nature and Extent of Confidentiality: There is no need for confidentiality with this collection of information.

Privacy Act: No impact(s).

Needs and Uses: On March 27, 2017 the Federal Communications Commission adopted the WRC-12 Implementation Report and Order (ET Docket No. 15-99, FCC 17-33, published at 82 FR 27178, June 14, 2017), which, inter alia, amended the Commission's rules for the Amateur Radio Service to provide for frequency sharing requirements in the 135.7-137.8 kHz (2200 m) and 472-479 kHz (630 m) bands. As specified in 47 CFR 97.313(g)(2), prior to commencement of operations in the 135.7-137.8 kHz (2200 m) and/or 472-479 kHz (630 m) bands, amateur operators must notify the Utilities Telecom Council (UTC) of their intent to operate by submitting their call signs, intended band(s) of operation, and the coordinates of their antenna's fixed location. Amateur stations will be permitted to commence operations after a 30-day period unless UTC notifies the station that its fixed location is located within one kilometer of Power Line Carrier (PLC) systems operating on the same or overlapping frequencies. This notification process will ensure that amateur stations seeking to operate in the above noted bands are located beyond a minimum separation distance from PLC transmission lines, which will help ensure the compatibility and co-existence of amateur and PLC operations, and promote shared use of the bands.

Concurrent with announcement of the OMB approval associated with 47 CFR 97.303(g)(2), the Commission is also making effective the rule amendments to 47 CFR 97.3, 97.15(c), 97.301(b) through (d), 97.303(g), 97.305(c), and 97.313(k) and (l). Because none of these amendments require OMB approval, they have not been included in OMB Control Number 3060-1239. By this action, all of the part 97 Amateur Radio Service rules adopted in FCC 17-33 will now be in effect.

Federal Communications Commission.
Katura Jackson,
Federal Register Liaison Officer, Office of the Secretary.

[FR Doc. 2017-19578 Filed 9-14-17; 8:45 am]

BILLING CODE 6712-01-P